DEPARTMENT OF TRANSPORTATION

Federal Aviation Administration

14 CFR Part 39

[Docket No. FAA-2007-28956; Directorate Identifier 2007-CE-068-AD; Amendment 39-15360; AD 2008-03-10]

RIN 2120-AA64

Airworthiness Directives; Cessna Aircraft Company Models 525, 525A, and 525B Airplanes

AGENCY: Federal Aviation Administration (FAA), Department of Transportation (DOT).

ACTION: Final rule.

SUMMARY: We are adopting a new airworthiness directive (AD) for certain Cessna Aircraft Company (Cessna) Models 525, 525A, and 525B airplanes. This AD requires you to inspect the lower wing skin structure, forward wing spar, lower fuselage skin, fairings, and the external fairing frames for corrosion; repair any damage found; apply a corrosion inhibitive sealant to the fuselage fairings before reinstalling; and disable the cockpit mounted pilot relief tube. This AD results from leaking of the cockpit mounted pilot relief tube, which caused corrosion of the airplane structure. We are issuing this AD to detect and correct any damage from corrosion of the airplane structure. Corrosion of the airplane structure could cause structural degradation and lead to structural failure of the airplane with consequent loss of control.

DATES: This AD becomes effective on March 11, 2008.

On March 11, 2008, the Director of the Federal Register approved the incorporation by reference of certain publications listed in this AD.

ADDRESSES: For service information identified in this AD, contact Cessna Aircraft Company, Citation Marketing Division, P.O. Box 7706, Wichita, Kansas 67277; telephone: 1-800-835-4090; fax: 1-800-517-8500.

To view the AD docket, go to U.S. Department of Transportation, Docket Operations, M-30, West Building Ground Floor, Room W12-140, 1200 New Jersey Avenue, SE., Washington, DC 20590, or on the Internet at http://www.regulations.gov. The docket number is FAA-2007-28956; Directorate Identifier 2007-CE-068-AD.

FOR FURTHER INFORMATION CONTACT: T.N. Baktha, Aerospace Engineer,1801 Airport Road, Room 100, Wichita, Kansas 67209; telephone: (316) 946-4155; fax: (316) 946-4107.

SUPPLEMENTARY INFORMATION:

Discussion

On October 22, 2007, we issued a proposal to amend part 39 of the Federal Aviation Regulations (14 CFR part 39) to include an AD that would apply to certain Cessna Models 525, 525A, and 525B airplanes. This proposal was published in the Federal Register as a notice of proposed rulemaking (NPRM) on October 26, 2007 (72 FR 60790). The NPRM proposed to require you to inspect the lower wing skin structure, forward wing spar, lower fuselage skin, fairings, and the external fairing frames for corrosion; repair any damage found; apply a corrosion inhibitive sealant to the fuselage fairings before reinstalling; and disable the cockpit mounted pilot relief tube.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 261 airplanes in the U.S. registry.

We estimate the following costs to do the inspection:

Labor cost | Parts cost | Total cost per airplane | Total cost on U.S. operators
80 work-hours × $80 per hour = $6,400 | Not applicable | $6,400 | $1,670,400

We have no way of determining the number of airplanes that may need repair or further inspection based on the results of the inspection, or the costs associated with such repair or inspection.

We estimate the following costs to disable the cockpit mounted pilot relief tube:

Labor cost | Parts cost | Total cost per airplane | Total cost on U.S. operators
.5 work-hour × $80 per hour = $40 | Not applicable | $40 | $10,440

Cessna will provide warranty credit to the extent specified in Cessna Citation Service Bulletin SB525-53-20, dated April 30, 2007; Cessna Citation Service Bulletin SB525A-53-01, dated April 30, 2007; Cessna Citation Service Bulletin SB525B-53-01, dated April 30, 2007; Cessna Citation Alert Service Letter ASL525-53-04, Revision 2, dated August 19, 2007; Cessna Citation Alert Service Letter ASL525A-53-05, Revision 2, dated July 25, 2007; and Cessna Citation Alert Service Letter ASL525B-53-02, Revision 2, dated July 25, 2007.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-28956; Directorate Identifier 2007-CE-068-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2008-03-10 Cessna Aircraft Company: Amendment 39-15360; Docket No. FAA-2007-28956; Directorate Identifier 2007-CE-068-AD.

Effective Date

(a) This AD becomes effective on March 11, 2008.

Affected ADs

(b) None.

Applicability

(c) This AD applies to the following airplane models and serial numbers that have a cockpit mounted pilot relief tube installed and are certificated in any category:

Models | Serial No.
(1) 525 | 0001 through 0637.
(2) 525A | 0001 through 0347.
(3) 525B | 0001 through 0152.

Unsafe Condition

(d) This AD results from leaking of the pilot relief tube, which caused corrosion of the airplane structure. We are issuing this AD to detect and correct any damage from corrosion on the airplane structure. Corrosion of the airplane structure could cause structural degradation and lead to structural failure of the airplane with consequent loss of control.

Compliance

(e) To address this problem, you must do the following, unless already done:

Table 1.—Actions, Compliance, and Procedures
Actions | Compliance | Procedures
(1) Inspect the lower wing skin structure, forward wing spars, lower fuselage skin, fairings, and external fairing frames for corrosion | Within the next 90 days after March 11, 2008 (the effective date of this AD) | Follow Cessna Citation Alert Service Letter ASL525-53-04, Revision 2, dated August 19, 2007; Cessna Citation Alert Service Letter ASL525A-53-05, Revision 2, dated July 25, 2007; or Cessna Citation Alert Service Letter ASL525B-53-02, Revision 2, dated July 25, 2007.
(2) If corrosion damage is found in the lower wing skin structure, forward wing spars, lower fuselage skin, fairings, or external fairing frames during the inspection required in paragraph (e)(1) of this AD, repair as specified in the applicable service information. If the corrosion damage cannot be repaired within the limits specified in the applicable service information, contact the manufacturer at 1-800-835-4090 for an FAA-approved repair scheme and incorporate this repair | Before further flight after the inspection required in paragraph (e)(1) of this AD | Follow Cessna Citation Alert Service Letter ASL525-53-04, Revision 2, dated August 19, 2007; Cessna Citation Alert Service Letter ASL525A-53-05, Revision 2, dated July 25, 2007; or Cessna Citation Alert Service Letter ASL525B-53-02, Revision 2, dated July 25, 2007.
(3) If corrosion on the lower wing skin structure, forward wing spars, and lower fuselage skin was repaired by blending within the limits specified in the service information, do a surface eddy current inspection or a dye-penetrant inspection for cracks | Before further flight after the repair by blending was done as specified in paragraph (e)(2) of this AD | Follow Cessna Citation Alert Service Letter ASL525-53-04, Revision 2, dated August 19, 2007; Cessna Citation Alert Service Letter ASL525A-53-05, Revision 2, dated July 25, 2007; or Cessna Citation Alert Service Letter ASL525B-53-02, Revision 2, dated July 25, 2007.
(4) If cracks are found during the surface eddy current inspection or the dye-penetrant inspection required in paragraph (e)(3) of this AD, contact the manufacturer for an FAA-approved repair scheme and incorporate this repair | Before further flight after the inspection required in paragraph (e)(3) of this AD | Contact Cessna Aircraft Company, Citation Customer Support at 1-800-835-4090.
(5) Install the fuselage fairings and apply corrosion inhibitive sealant | Before further flight after the inspection required in paragraph (e)(1) of this AD if no corrosion was found; or before further flight after doing the repairs and inspections required in paragraphs (e)(2), (e)(3), and (e)(4) of this AD if corrosion or cracks were found | Follow Cessna Citation Alert Service Letter ASL525-53-04, Revision 2, dated August 19, 2007; Cessna Citation Alert Service Letter ASL525A-53-05, Revision 2, dated July 25, 2007; or Cessna Citation Alert Service Letter ASL525B-53-02, Revision 2, dated July 25, 2007.
(6) Determine the type of installation of the cockpit mounted pilot relief tube and disable the relief tube | Before further flight after the inspection required in paragraph (e)(1) of this AD | Cessna Citation Service Bulletin SB525-53-20, dated April 30, 2007; Cessna Citation Service Bulletin SB525A-53-01, dated April 30, 2007; or Cessna Citation Service Bulletin SB525B-53-01, dated April 30, 2007.

Alternative Methods of Compliance (AMOCs)

(f) The Manager, Wichita Aircraft Certification Office (ACO), FAA, has the authority to approve AMOCs for this AD, if requested using the procedures found in 14 CFR 39.19. Send information to ATTN: T.N. Baktha, Wichita ACO, Aerospace Engineer, 1801 Airport Road, Room 100, Wichita, Kansas 67209; telephone: (316) 946-4155; fax: (316) 946-4107. Before using any approved AMOC on any airplane to which the AMOC applies, notify your appropriate principal inspector (PI) in the FAA Flight Standards District Office (FSDO), or lacking a PI, your local FSDO.

Material Incorporated by Reference

(g) You must use the service information specified in Table 2 of this AD to do the actions required by this AD, unless the AD specifies otherwise.

(1) The Director of the Federal Register approved the incorporation by reference of this service information under 5 U.S.C. 552(a) and 1 CFR part 51.

(2) For service information identified in this AD, contact Cessna Aircraft Company, Citation Marketing Division, P.O. 7706, Wichita, Kansas 67277; telephone: 1-800-835-4090; fax: 1-800-517-8500.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Table 2.—Material Incorporated by Reference
Service Bulletin No. | Revision | Date
Cessna Citation Alert Service Letter ASL525-53-04 | 2 | August 19, 2007.
Cessna Citation Alert Service Letter ASL525A-53-05 | 2 | July 25, 2007.
Cessna Citation Alert Service Letter ASL525B-53-02 | 2 | July 25, 2007.
Cessna Citation Service Bulletin SB525A-53-20 |  | April 30, 2007
Cessna Citation Service Bulletin SB525A-53-01 |  | April 30, 2007.
Cessna Citation Service Bulletin SB525B-53-01 |  | April 30, 2007.

Issued in Kansas City, Missouri, on January 24, 2008.
John Colomy,
Acting Manager, Small Airplane Directorate, Aircraft Certification Service.

[FR Doc. E8-1821 Filed 2-4-08; 8:45 am]

BILLING CODE 4910-13-P